DEPARTMENT OF ENERGY

Office of Fossil Energy; Methane Hydrate Advisory Committee

AGENCY: Department of Energy.

ACTION: Notice of open meeting.

SUMMARY: This notice announces a meeting of the Methane Hydrate Advisory Committee. Federal Advisory Committee Act (Pub. L. 92-463, 86 Stat. 770) requires notice of these meetings be announced in the Federal Register.

DATES: Wednesday, November 13, 2002, 8:30 a.m. to 5 p.m. and Thursday, November 14, 2002, 8:30 a.m. to 3 p.m.

ADDRESSES: Marriott at Metro Center, 775 12th Street NW, Washington, DC 20005.

FOR FURTHER INFORMATION CONTACT: Edith Allison, U.S. Department of Energy, Office of Natural Gas and Petroleum Technology, Washington, DC 20585. Phone: 202/586-1023.

SUPPLEMENTARY INFORMATION: Purpose of the Committee: The purpose of the Methane Hydrate Advisory Committee is to provide advice on potential applications of methane hydrate to the Secretary of Energy; assist in developing recommendations and priorities for the Department of Energy methane hydrate research and development program; and, submit to Congress a report on the anticipated impact on global climate change from methane hydrate formation, methane hydrate degassing and consumption of natural gas produced from methane hydrates.

Tentative Agenda

Wednesday, November 13

• Welcome and Introductions—Mike Smith, Assistant Secretary for Fossil Energy and Arthur Johnson, Advisory Committee Chairman

• Joint meeting with the Interagency Coordinating Committee—8:30 to noon Briefings on Methane Hydrate Accomplishments, Future Activities and R&D Issues by Minerals Management Service; National Oceanic and Atmospheric Administration; National Science Foundation; Naval Research Laboratory; U.S. Geological Survey; and Department of Energy

• Presentation and discussion—Ocean Drilling Program Leg 204 to Hydrate Ridge

• Presentation and discussion—Mallik Well and other Arctic studies

Ten minutes will be allowed for questions and public comment after each presentation.

• Review of draft report to Congress on Hydrates and Global Climate Change

Thursday, November 14

• Continue review and revision of report to Congress on Hydrates and Global Climate Change

• Discussion of additional recommendations to Department of Energy

• Public comment period

• Adjournment, about 3:00 p.m.

Public Participation: The meeting is open to the public. The Chairmen of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, 1E-190, Forrestal Building, 1000 Independence Avenue, SW., Washington, DC, between 9:00 a.m. and 4:00 p.m., Monday through Friday, except Federal holidays. Transcripts will be available by request.

Issued in Washington, DC, on October 2, 2002.
Rachel M. Samuel,
Deputy Advisory Committee , Management Officer.

[FR Doc. 02-25534 Filed 10-7-02; 8:45 am]

BILLING CODE 6450-01-P